DEPARTMENT OF ENERGY

10 CFR Part 1021

[DOE-HQ-2023-0063]

RIN 1990-AA48

National Environmental Policy Act Implementing Procedures; Correction

AGENCY: Office of the General Counsel, Department of Energy.

ACTION: Final rule; correction.

SUMMARY: The U.S. Department of Energy (DOE or the Department) is correcting a final rule that was published in the Federal Register on April 30, 2024. The final rule revised National Environmental Policy Act (NEPA) implementing procedures (regulations). This document corrects an error in that final rule.

DATES: Effective May 30, 2024.

FOR FURTHER INFORMATION CONTACT: For information regarding DOE's NEPA regulations, contact Ms. Carrie Abravanel, Deputy Director, Office of NEPA Policy and Compliance, at carrie.abravanel@hq.doe.gov or 202-586-4798.

SUPPLEMENTARY INFORMATION:

I. Background

DOE published a final rule in the Federal Register on April 30, 2024, revising NEPA implementing procedures to add a categorical exclusion for certain energy storage systems and revise categorical exclusions for upgrading and rebuilding powerlines and for solar photovoltaic systems, as well as to make conforming changes to related sections of DOE's NEPA regulations. 89 FR 34074. These changes will help ensure that DOE conducts an appropriate and efficient environmental review of proposed projects that normally do not result in significant environmental impacts.

II. Correction

In FR Doc. 2024-09186 appearing on pg. 34093 in the Federal Register of Tuesday, April 30, 2024, the following correction is made:

On pg. 34093 in the first column, correct paragraph M, Congressional Notification, to read: “As required by 5 U.S.C. 801, DOE will report to Congress on the promulgation of this rule prior to its effective date. The report will state that the Office of Information and Regulatory Affairs has determined that the rule does not meet the criteria set forth in 5 U.S.C. 804(2).”

Signing Authority

This document of the Department of Energy was signed on May 8, 2024, by Samuel T. Walsh, General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 8, 2024.
Treena V. Garrett,
Federal Register Liaison Officer, U.S. Department of Energy.

[FR Doc. 2024-10415 Filed 5-10-24; 8:45 am]

BILLING CODE 6450-01-P